DEPARTMENT OF THE INTERIOR

Bureau of Reclamation

[RR83550000, 145R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

OM&R Operation, Maintenance, and Replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

1. Irrigation, M&I, and Miscellaneous Water Users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Poplar ID, all in the Minidoka Project, Idaho; and Juniper Flat District Improvement Company, Wapinitia Project, Oregon: Amendatory repayment and water service contracts; purpose is to conform to the RRA.

5. Nine water user entities of the Arrowrock Division, Boise Project, Idaho: Repayment agreements with districts with spaceholder contracts for repayment, per legislation, of the reimbursable share of costs to rehabilitate Arrowrock Dam Outlet Gates under the O&M program.

6. Three irrigation water user entities, Rogue River Basin Project, Oregon: Long-term contracts for exchange of water service with three entities for the provision of up to 292 acre-feet of stored water from Applegate Reservoir (a USACE project) for irrigation use in exchange for the transfer of out-of-stream water rights from the Little Applegate River to instream flow rights with the State of Oregon for instream flow use.

7. Conagra Foods Lamb Weston, Inc., Columbia Basin Project, Washington: Miscellaneous purposes water service contract providing for the delivery of up to 1,500 acre-feet of water from the Scooteney Wasteway for effluent management.

8. Benton ID, Yakima Project, Washington: Replacement contract to, among other things, withdraw the District from the Sunnyside Division Board of Control; provide for direct payment of the District's share of total operation, maintenance, repair, and replacement costs incurred by the United States in operation of storage division; and establish District responsibility for operation, maintenance, repair, and replacement for irrigation distribution system.

9. Stanfield and Westland IDs and 67 individual contractors, Umatilla Project, Oregon: Amendatory repayment contracts and repayment agreements for reimbursable cost of SOD repairs to McKay Dam.

Mid-Pacific Region: Bureau of Reclamation, 2800 Cottage Way, Sacramento, California 95825-1898, telephone 916-978-5250.

1. Irrigation water districts, individual irrigators, M&I and miscellaneous water users; California, Nevada, and Oregon: Temporary (interim) water service contracts for available project water for irrigation, M&I, or fish and wildlife purposes providing up to 10,000 acre-feet of water annually for terms up to 5 years; temporary Warren Act contracts for up to 10,000 acre-feet for use of excess capacity in project facilities for terms up to 5 years; temporary conveyance agreements with the State of California for various purposes; long-term contracts for similar service for up to 1,000 acre-feet annually.

2. Contractors from the American River Division, Delta Division, Cross Valley Canal, San Felipe Division, West San Joaquin Division, San Luis Unit, and Elk Creek Community Services District; CVP; California: Renewal of 30 interim and long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts.

3. Redwood Valley County WD, SRPA, California: Restructuring the repayment schedule pursuant to Public Law 100-516.

4. El Dorado County Water Agency, CVP, California: M&I water service contract to supplement existing water supply. Contract will provide for an amount not to exceed 15,000 acre-feet annually authorized by Public Law 101-514 (Section 206) for El Dorado County Water Agency. The supply will be subcontracted to El Dorado ID and Georgetown Divide Public Utility District.

5. Sutter Extension WD, Delano-Earlimart ID, Pixley ID, the State of California Department of Water Resources, and the State of California Department of Fish and Wildlife; CVP; California: Pursuant to Pub. L. 102-575, agreements with non-Federal entities for the purpose of providing funding for CVPIA refuge water conveyance and/or facilities improvement construction to deliver water for certain Federal wildlife refuges, State wildlife areas, and private wetlands.

6. CVP Service Area, California: Temporary water acquisition agreements for purchase of 5,000 to 200,000 acre-feet of water for fish and wildlife purposes as authorized by Public Law 102-575 for terms of up to 5 years.

7. El Dorado ID, CVP, California: Long-term Warren Act contract for conveyance of nonproject water in the amount of up to 17,000 acre-feet annually. The contract will allow CVP facilities to be used to deliver nonproject water to the District for M&I use within its service area.

8. Horsefly, Klamath, Langell Valley, and Tulelake IDs; Klamath Project; Oregon: Repayment contracts for SOD work on Clear Lake Dam. These districts will share in repayment of costs, and each district will have a separate contract.

9. Casitas Municipal WD, Ventura Project, California: Repayment contract for SOD work on Casitas Dam.

10. Warren Act Contracts, CVP, California: Execution of long-term Warren Act contracts (up to 40 years) with various entities for conveyance of nonproject water in the CVP.

11. Tuolumne Utilities District (formerly Tuolumne Regional WD), CVP, California: Long-term water service contract for up to 9,000 acre-feet from New Melones Reservoir, and possibly a long-term contract for storage of nonproject water in New Melones Reservoir.

12. Madera-Chowchilla Water and Power Authority, CVP, California: Agreement to transfer the OM&R and certain financial and administrative activities related to the Madera Canal and associated works.

13. Sacramento Suburban WD, CVP, California: Execution of long-term Warren Act contract for conveyance of 29,000 acre-feet of nonproject water. The contract will allow CVP facilities to be used to deliver nonproject water provided from the Placer County Water Agency to the District for use within its service area.

14. Town of Fernley, State of California, City of Reno, City of Sparks, Washoe County, State of Nevada, Truckee-Carson ID, and any other local interest or Native American Tribal Interest who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the Truckee River Operating Agreement.

15. Delta Lands Reclamation District No. 770, CVP, California: Long-term Warren Act contract for conveyance of up to 300,000 acre-feet of nonproject flood flows via the Friant-Kern Canal for flood control purposes.

16. Pershing County Water Conservation District, Pershing County, Lander County, and the State of Nevada; Humboldt Project; Nevada: Title transfer of lands and features of the Humboldt Project.

17. Mendota Wildlife Area, CVP, California: Reimbursement agreement between the California Department of Fish and Wildlife and Reclamation for conveyance service costs to deliver Level 2 water to the Mendota Wildlife Area during infrequent periods when the Mendota Pool is down due to unexpected but needed maintenance. This action is taken pursuant to Public Law 102-575, Title 34, Section 3406(d)(1), to meet full Level 2 water needs of the Mendota Wildlife Area.

18. San Luis WD, CVP, California: Proposed partial assignment of 2,400 acre-feet of the District's CVP supply to Santa Nella County WD for M&I use.

19. Placer County Water Agency, CVP, California: Proposed exchange agreement under section 14 of the 1939 Act to exchange up to 71,000 acre-feet annually of the Agency's American River Middle Fork Project water for use by Reclamation, for a like amount of CVP water from the Sacramento River for use by the Agency.

20. Irrigation Contractors, Klamath Project, Oregon: Amendment of repayment contracts or negotiation of new contracts to allow for recovery of additional capital costs.

21. Orland Unit Water User's Association, Orland Project, California: Repayment contract for the SOD costs assigned to the irrigation of Stony Gorge Dam.

22. Goleta WD, Cachuma Project, California: An agreement to transfer title of the federally owned distribution system to the District subject to approved legislation.

23. Colusa County WD, CVP, California: Execution of a long-term Warren Act contract for conveyance of up to 40,000 acre-feet of groundwater per year through the use of the Tehama-Colusa Canal.

24. City of Santa Barbara, Cachuma Project, California: Execution of a temporary contract and a long-term Warren Act contract with the City for conveyance of nonproject water in Cachuma Project facilities.

25. Water user entities responsible for payment of O&M costs for Reclamation projects in California, Nevada, and Oregon: Contracts for extraordinary maintenance and replacement funded pursuant to ARRA. Added costs to rates to be collected under irrigation and interim M&I ratesetting policies.

26. Water user entities responsible for payment of O&M costs for Reclamation projects in California, Nevada, and Oregon: Contracts for extraordinary maintenance and replacement funded pursuant to Subtitle G of Public Law 111-11.

27. Cachuma Operation and Maintenance Board, Cachuma Project, California: Amendment to SOD Contract No. 01-WC-20-2030 to provide for increased SOD costs associated with Bradbury Dam.

28. Reclamation will become signatory to a three-party conveyance agreement with the Cross Valley Contractors and the California State Department of Water Resources for conveyance of Cross Valley Contractors' CVP water supplies that are made available pursuant to long-term water service contracts.

29. Westlands WD, CVP, California: Negotiation and execution of a long-term repayment contract to provide reimbursement of costs related to the construction of drainage facilities. This action is being undertaken to satisfy the Federal Government's obligation to provide drainage service to Westlands located within the San Luis Unit of the CVP.

30. San Luis WD, Meyers Farms Family Trust, and Reclamation; CVP; California: Revision of an existing contract between San Luis WD, Meyers Farms Family Trust, and Reclamation providing for an increase in the exchange of water from 6,316 to 10,526 acre-feet annually and an increase in the storage capacity of the bank to 60,000 acre-feet.

31. San Joaquin Valley National Cemetery, U.S. Department of Veteran Affairs, Delta Division, CVP, California: Negotiation of a 5-year wheeling agreement with an effective date in 2011 is pending. A wheeling agreement with the State of California, Department of Water Resources provides for the conveyance and delivery of CVP water through State of California facilities to the San Joaquin Valley National Cemetery.

32. Byron-Bethany ID, CVP, California: A current wheeling agreement with the State of California, Department of Water Resources and Byron-Bethany ID for the conveyance and delivery of CVP water through the California State Aqueduct to Musco Family Olive Company, a customer of Byron-Bethany.

33. Contra Costa WD, CVP, California: Amendment to an existing O&M agreement to transfer O&M of the Contra Costa Rock Slough Fish Screen to the District. Initial construction funding provided through ARRA.

34. Irrigation water districts, individual irrigators and M&I water users, CVP, California: Temporary water service contracts for terms not to exceed 1 year for up to 100,000 acre-feet of surplus supplies of CVP water resulting from an unusually large water supply, not otherwise storable for project purposes, or from infrequent and otherwise unmanaged flood flows of short duration.

35. Irrigation water districts, individual irrigators, M&I and miscellaneous water users, CVP, California: Temporary Warren Act contracts for terms up to 5 years providing for use of excess capacity in CVP facilities for annual quantities exceeding 10,000 acre-feet.

36. City of Redding, CVP, California: Proposed partial assignment of 30 acre-feet of the City of Redding's CVP water supply to the City of Shasta Lake for M&I use.

37. Langell Valley ID, Klamath Project; Oregon: Title transfer of lands and facilities of the Klamath Project.

38. Sacramento River Division, CVP, California: Administrative assignments of various Sacramento River Settlement Contracts.

39. Conaway Preservation Group, LLC, Sacramento River Division, CVP, California: Proposed assignment of 10,000 acre-feet of water under an existing Sacramento River Settlement Contract to the Woodland-Davis Clean Water Agency.

40. California Department of Fish and Game, CVP, California: To extend the term of and amend the existing water service contract for the Department's San Joaquin Fish Hatchery to allow an increase from 35 to 60 cubic feet per second of continuous flow to pass through the Hatchery prior to it returning to the San Joaquin River.

41. Orland Unit Water User's Association, Orland Project, California: Title transfer of lands and features of the Orland Project.

42. Santa Clara Valley WD, CVP, California: Second amendment to Santa Clara Valley WD's water service contract to add an additional point of delivery.

43. PacifiCorp, Klamath Project, Oregon and California: Transfer of O&M of Link River Dam and associated facilities. Contract will allow for the continued O&M by PacifiCorp.

44. Tulelake ID, Klamath Project, Oregon and California: Transfer of O&M of Station 48 and gate on Drain #1, Lost River Diversion Channel.

45. Fresno County Waterworks No. 18; Friant Division, CVP; California: Execution of an agreement to provide for the O&M of select Federal facilities by Fresno County Waterworks No. 18.

46. U.S. Fish and Wildlife Service, Tulelake ID; Klamath Project; Oregon and California: Water service contract for deliveries to Lower Klamath National Wildlife Refuge, including transfer of O&M responsibilities for the P Canal system.

47. Tulelake ID, Klamath Project, Oregon and California: Amendment of repayment contract to eliminate reimbursement for P Canal O&M costs.

48. East Bay Municipal Utility District, CVP, California: Long-term Warren Act contract for storage and conveyance of up to 47,000 acre-feet annually.

49. Sacramento County Water Agency, CVP, California: Assignment of 7,000 acre-feet of CVP water to the City of Folsom.

50. Del Puerto WD, CVP, California: Long-term Warren Act contract, not to exceed 40 years, for storage and conveyance of up to 60,000 acre-feet of recycled water from the cities of Turlock and Modesto. This nonproject water will be stored in the San Luis Reservoir and conveyed through the Delta-Mendota Canal to agricultural lands and wildlife refuges.

Discontinued contract actions:

1. (12) Banta Carbona ID, CVP, California: Long-term Warren Act contract for conveyance of nonproject water in the Delta-Mendota Canal.

2. (25) County of Tulare, CVP, California: Proposed assignment of the County's Cross Valley Canal water supply in the amount of 5,308 acre-feet to its various subcontractors. Water will be used for both irrigation and M&I purposes.

Lower Colorado Region: Bureau of Reclamation, P.O. Box 61470 (Nevada Highway and Park Street), Boulder City, Nevada 89006-1470, telephone 702-293-8192.

1. Milton and Jean Phillips, BCP, Arizona: Develop a Colorado River water delivery contract for 60 acre-feet of Colorado River water per year as recommended by the Arizona Department of Water Resources.

2. John J. Peach, BCP, Arizona: Develop a Colorado River water delivery contracts for 456 acre-feet of Colorado River water per year as recommended by the Arizona Department of Water Resources.

3. Gila Project Works, Gila Project, Arizona: Title transfer of facilities and certain lands in the Wellton-Mohawk Division from the United States to the Wellton-Mohawk IDD.

4. Sherrill Ventures, LLLP and Green Acres Mohave, LLC; BCP; Arizona: Draft contracts for PPR No. 14 for 1,080 acre-feet of water per year as follows: Sherrill Ventures, LLLP, a draft contract for 954.3 acre-feet per year and Green Acres Mohave, LLC, a draft contract for 125.7 acre-feet per year.

5. Water user entities responsible for payment of O&M costs for Reclamation projects in Arizona, California, Nevada, and Utah: Contracts for extraordinary maintenance and replacement funded pursuant to ARRA.

6. Water user entities responsible for payment of O&M costs for Reclamation projects in Arizona, California, Nevada, and Utah: Contracts for extraordinary maintenance and replacement funded pursuant to Subtitle G of Pub. L. 111-11.

7. San Carlos Apache Tribe and the Town of Gilbert, CAP, Arizona: Proposed 100-year lease not to exceed 5,925 acre-feet per year of CAP water from the Tribe to Gilbert.

8. City of Yuma, BCP, Arizona: Amend the City's contract to extend the term (which expired October 2012) for 5 years during which time a consolidated contract will be developed.

9. Bard WD, Yuma Project, California: Supersede and replace the District's O&M contract for the Yuma Project, California, Reservation Division, Indian Unit, to reflect that appropriated funds are no longer available, and to specify an alternate process for transfer of funds. In addition, other miscellaneous processes required for Reclamation's contractual administration and oversight will be updated to ensure the Federal Indian Trust obligation for reservation water and land are met.

10. Metropolitan Water District of Southern California, the San Diego County Water Authority, and the Otay WD; BCP; California: Execute a proposed Amendment No. 2 to extend the “Agreement for Temporary Emergency Delivery of a Portion of the Mexican Treaty Waters of the Colorado River to the International Boundary in the Vicinity of Tijuana, Baja California, Mexico, and the Operation of Facilities in the United States” until November 9, 2019.

11. Flowing Wells ID and the City of Tucson, CAP, Arizona: Execute a proposed partial assignment to the City of 19 acre-feet per year from the District's CAP water entitlement amount of 4,354 acre-feet per year.

12. Central Arizona Water Conservation District, CAP, Arizona: Negotiate a standard form of wheeling agreement for the wheeling of nonproject water, in accordance with the District's existing contract.

13. Ogram Farms, BCP, Arizona: Revise Exhibit A of the contract to change the contract service area and points of diversion/delivery.

14. Ogram Boys Enterprises, Inc., BCP, Arizona: Revise Exhibit A of the contract to change the contract service area and points of diversion/delivery.

15. H2O Water Company, Inc. and the Town of Queen Creek, CAP, Arizona: Execute a proposed assignment to the Town of Queen Creek of the H2O Water Company's 147 acre-foot annual CAP water entitlement.

16. San Carlos Apache Tribe and the Town of Gilbert, CAP, Arizona: Execute Amendment No. 4 to a CAP water lease to extend the term of the lease in order for the San Carlos Apache Tribe to lease 20,000 acre-feet of its CAP water to the Town of Gilbert during calendar year 2015.

17. Fort McDowell Yavapai Nation and the Town of Gilbert, CAP, Arizona: Execute Amendment No. 4 to a CAP water lease to extend the term of the lease in order for Fort McDowell Yavapai Nation to lease 13,933 acre-feet of its CAP water to the Town of Gilbert during calendar year 2015.

18. San Carlos Apache Tribe and the Pascua Yaqui Tribe, CAP, Arizona: Execute a CAP water lease in order for the San Carlos Apache Tribe to lease 2,000 acre-feet of its CAP water to the Pascua Yaqui Tribe during calendar year 2015.

19. Town of Quartzsite, BCP, Arizona: Amend the contract with the Town of Quartzsite to extend the term for another 15 years ending on January 28, 2029.

Completed contract actions:

1. (18) Fort McDowell Yavapai Nation, the Salt River Project Agricultural Improvement and Power District, and the Salt River Valley Water Users' Association, CAP, Arizona: Approve a proposed exchange agreement for 13,933 acre-feet of CAP water for Verde River water. Contract executed September 25, 2014.

2. (24) Cibola Valley IDD, BCP, Arizona: Approve a partial assignment of 240 acre-feet per year from the District's Colorado River fourth-priority entitlement to GSC Farm, LLC, and execute the necessary amendments to the District's and GSC's contracts. Contract executed December 3, 2014.

Discontinued contract action:

1. (7) Bureau of Land Management, LCWSP, California: Amend contract No. 8-07-30-W0375 to add a new point of diversion and place of use; San Bernardino County's Park Moabi, a Bureau of Land Management-leased site.

Upper Colorado Region: Bureau of Reclamation, 125 South State Street, Room 8100, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

2. Contracts with various water user entities responsible for payment of O&M costs for Reclamation projects in Arizona, Colorado, New Mexico, Texas, Utah, and Wyoming: Contracts for extraordinary maintenance and replacement funded pursuant to Subtitle G of Pub. L. 111-11 to be executed as project progresses.

3. Middle Rio Grande Project, New Mexico: Reclamation continues annual leasing of water from various San Juan-Chama Project contractors to stabilize flows in a critical reach of the Rio Grande in order to meet the needs of irrigators and preserve habitat for the silvery minnow. Reclamation leased approximately 13,209 acre-feet of water from San Juan-Chama Project contractors in 2014.

4. Various Entities, Carlsbad Project, New Mexico: Reclamation leases water in the Pecos River to make up for the water depletions caused by changes in operations at Sumner Dam which were made to improve conditions for a threatened species, the Pecos Bluntnose Shiner. Individual irrigators enter into forbearance contracts and lease agreements with individuals who have privately held water rights to divert nonproject water either directly from the Pecos River or from shallow/artesian wells in the Pecos River Watershed. Reclamation contracted with Fort Sumner ID for partial- and full-season fallowing in 2014, and with the NMISC to lease privately held water for delivery to the Pecos River via the NMISC's Vaughn Pipeline.

5. Bridger Valley Water Conservancy District, Lyman Project, Wyoming: The District has requested that its Meeks Cabin repayment contract be amended from two 25-year contacts to one 40-year contract.

6. Uintah Water Conservancy District; Vernal Unit, CUP; Utah: Proposed carriage contract to both store up to 35,000 acre-feet of nonproject water in Steinaker Reservoir and carry nonproject water in the Steinaker Service and Feeder Canals.

7. PacifiCorp Energy Corporation, Emery County Project, Utah: The Corporation has requested renewal of its water service contract for 6,000 acre-feet of project M&I water from Joe's Valley Reservoir, Emery County Project.

8. Aamodt Litigation Settlement, San Juan-Chama Project, New Mexico: Contract for 1,079 acre-feet of San Juan-Chama Project water for M&I use with the four Pueblos included in the Aamodt Litigation Settlement Act, Title VI of P.L. 111-291. The four Pueblos are the Nambe, Pojoaque, San Ildefonso, and Tesuque.

9. Salt River Project Agricultural Improvement and Power District, Salt River Project, Glen Canyon Unit, CRSP, Arizona: The District has requested a renewal of its existing contract from 2034 through 2044.

10. City of Santa Fe, San Juan-Chama Project, New Mexico: Contract to store up to 50,000 acre-feet of project Water in Elephant Butte Reservoir. The proposed contract would have a 25- to 40-year maximum term, which due to ongoing consultations with the U.S. Fish and Wildlife Service, has been executed and extended on an annual basis. The Act of December 29, 1981, Public Law 97-140, 95 Stat. 1717 provides authority to enter into this contract.

11. Pinnacle Potash International, Flaming Gorge, CRSP, Utah: Pinnacle Potash International has requested a water service agreement for up to 20,000 acre feet of M&I water out of Flaming Gorge for potash mining at a place near Crescent Junction, Utah.

12. Weber River Water Users Association, Weber River Project, Utah: The Association has requested Reclamation augment a to-be-built O&M building near Echo Dam and is willing to pay the difference in costs for the larger building. The United States would accept the money under the Civil Sundry Appropriations Act of 1921.

13. North Summit Pressurized Irrigation Company, Weber Basin Project, Utah: The Company has requested a contract to convey and store its privately held water on a space-available basis in Rockport Reservoir and the use of Wanship Dam to pressurize its piped irrigation system under the authority of the Warren Act of 1911.

14. Metropolitan Water District of Salt Lake and Sandy, Provo River Project, Utah: The District has requested a contract to store its Ontario Drain Tunnel water in Deer Creek Reservoir on a space-available basis under the authority of the Warren Act of 1911.

15. Weber Basin Water Conservancy District, Weber Basin Project, Utah: The District has requested a contract to return certain water rights to Reclamation and for Reclamation to allow the storage of Weber Basin Project water in Smith Morehouse Reservoir under the authority of Section 14 of the Reclamation Projects Act of 1939.

16. Azalea Oil Company; Flaming Gorge Unit, CRSP; Wyoming: The Company has requested a contract for 1 acre-foot of water for drilling, dust suppression, and other uses for a well. The Company plans on drilling in Southwest Wyoming.

17. Southern Ute Indian Tribe, Animas-La Plata Project, Colorado: Requested a water delivery contract for 33,519 acre-feet of M&I water; contract terms to be consistent with the Colorado Ute Settlement Act Amendments of 2000 (Title III of Pub. L. 106-554).

18. Ute Mountain Ute Tribe, Animas-La Plata Project, Colorado: Requested a water delivery contract for 33,519 acre-feet of M&I water; contract terms to be consistent with the Colorado Ute Settlement Act Amendments of 2000 (Title III of Pub. L. 106-554).

19. Navajo-Gallup Water Supply Project, New Mexico: Reclamation continues negotiations on an OM&R transfer contract with the Navajo Tribal Utility Authority pursuant to Public Law 111-11, Section 10602(f) which transfers responsibilities to carry out the OM&R of transferred works of the Project; ensures the continuation of the intended benefits of the Project, distribution of water, and sets forth the allocation and payment of annual OM&R costs of the Project.

20. Albuquerque Bernalillo County Water Utility Authority, San Juan-Chama Project, New Mexico: Requested a contract to store up to 50,000 acre-feet of project water in Elephant Butte Reservoir. The proposed contract would have a 40-year maximum term, which due to ongoing consultations with the U.S. Fish and Wildlife Service, the existing Contract No. 3-CS-53-01510 which expired on January 26, 2008, has been extended annually. The Act of December 29, 1981, Pub. L. 97-140, 95 Stat. 1717 provides authority to enter into this contract. Reclamation is conducting environmental compliance to proceed with the 40-year contract. In the interim, Reclamation continues to execute annual renewals until a long-term contract can be executed.

21. Animas-La Plata Project, Colorado-New Mexico: (a) Navajo Nation title transfer agreement for the Navajo Nation Municipal Pipeline for facilities and land outside the corporate boundaries of the City of Farmington, New Mexico; contract terms to be consistent with the Colorado Ute Settlement Act Amendments of 2000 (Title III of Pub. L. 106-554) and the Northwestern New Mexico Rural Water Projects Act (Title X of Pub. L. 111-11); (b) City of Farmington, New Mexico, title transfer agreement for the Navajo Nation Municipal Pipeline for facilities and land inside the corporate boundaries of the City of Farmington; New Mexico, contract terms to be consistent with the Colorado Ute Settlement Act Amendments of 2000 (Title III of Pub. L. 106-554) and the Northwestern New Mexico Rural Water Projects Act (Title X of Pub. L. 111-11); and (c) Operations agreement among the United States, Navajo Nation, and City of Farmington for the Navajo Nation Municipal Pipeline pursuant to Public Law 111-11, Section 10605(b)(1) that sets forth any terms and conditions that secures an operations protocol for the M&I water supply.

22. Dolores Water Conservancy District, Dolores Project, Colorado: The District has requested a water service contract for 1,402 acre-feet of newly identified project water for irrigation. The proposed water service contract will provide 417 acre-feet of project water for irrigation of the Ute Enterprise and 985 acre-feet for use by the District's full-service irrigators.

23. City of Page, Arizona; Glen Canyon Unit, CRSP; Arizona: Long-term contract for 975 acre-feet of water for municipal purposes.

24. Florida Water Conservancy District, Florida Project, Colorado: The District and the United States, pursuant to Section 4 of the CRSP, and subsection 9(c)(2) of the Reclamation Projects Act of 1939, propose to negotiate and execute a water service contract for 2,500 acre-feet of Florida Project water for M&I and other miscellaneous beneficial uses, other than commercial agricultural irrigation, within the District boundaries in La Plata County, Colorado.

25. Aamodt Settlement, Pojoaque Basin Region Water System: Contributed Funding Agreements with the County of Santa Fe for associated construction costs will be executed in 2015.

Completed contract actions:

1. (7) Public Service Company of New Mexico, Reclamation, and the U.S. Fish and Wildlife Service; San Juan River Basin Recovery Implementation Program: The agreement identifies that Reclamation may provide cost-share funding for the recovery monitoring and research, and O&M of the constructed fish passage at the Public Service Company's site pursuant to Pub. L. 106-392, dated October 30, 2000 (114 Stat. 1602).

2. (8) Jensen Unit, CUP, Utah: The Uintah Water Conservancy District has requested a contract with provisions to prepay 2,675 acre-feet of the 3,300 acre-feet of project M&I water from Red Fleet Reservoir. Contract executed October 9, 2014.

3. (16) Pine Glen, LLC, Mancos Project, Colorado: Pine Glen LLC has requested a new carriage contract to replace existing contract No. 14-06-400-4901, assignment No. 6. The new contract is the result of a property sale. Remaining interest in the existing assignment is for 0.56 cubic feet per second of nonproject water to be carried through Mancos Project facilities. Contract executed February 13, 2014.

4. (17) Voiles, Katherine Marie and William Thomas, Mancos Project, Colorado: Katherine Marie and William Thomas Voiles have requested a new carriage contract to replace existing contract No. 14-06-400-4901, assignment No. 2-A. The new contract is the result of a property sale. Remaining interest in the existing assignment is for 0.38 cubic feet per second of nonproject water to be carried through Mancos Project facilities. Contract executed February 26, 2014.

5. (18) Hanson, Brian E. and Joan M. Brake-Hanson, Mancos Project, Colorado: Brian E. Hanson and Joan M. Brake-Hanson have requested a new carriage contract to replace existing contract No. 14-06-400-4901, assignment No. 5. The new contract is the result of a property sale. Remaining interest in the existing assignment is for 0.12 cubic feet per second of nonproject water to be carried through Mancos Project facilities. Contract executed July 29, 2014.

6. (20) El Paso County Water Improvement District No. 1 and Ysleta del Sur Pueblo, Rio Grande Project, Texas: Contract to convert up to 1,000 acre-feet of the Pueblo's project irrigation water to use for tradition and religious purposes.

Discontinued contract actions:

1. (12) Elkhead Reservoir Enlargement: This contract will supersede Contract No. 05-WC-40-420. The proposed contract will include the Recovery Program's pro-rata share of the actual construction cost plus fish screen costs. Also identified in this proposed contract is the pro-rata share of the actual construction costs for the other signatory parties. Upon payment by Recovery Program, this proposed contract will ensure a permanent water supply for the endangered fish.

2. (22) Uintah Water Conservancy District, Jensen Unit, CUP, Utah: Proposed carriage contract to both store up to 5,000 acre-feet of nonproject water in Red Fleet Reservoir and carry nonproject water in the project Canals.

Great Plains Region: Bureau of Reclamation, P.O. Box 36900, Federal Building, 2021 4th Avenue North, Billings, Montana 59101, telephone 406-247-7752.

1. Irrigation, M&I, and miscellaneous water users; Colorado, Kansas, Montana, Nebraska, North Dakota, Oklahoma, South Dakota, Texas, and Wyoming: Water service contracts for the sale, conveyance, storage, and exchange of surplus project water and nonproject water for irrigation or M&I use to provide up to 10,000 acre-feet of water annually for a term of up to 1 year, or up to 1,000 acre-feet of water annually for a term of up to 40 years.

2. Water user entities responsible for payment of O&M costs for Reclamation projects in Colorado, Kansas, Montana, Nebraska, North Dakota, Oklahoma, South Dakota, Texas, and Wyoming: Contracts for extraordinary maintenance and replacement funded pursuant to Subtitle G of Pub. L. 111-11.

3. Green Mountain Reservoir, Colorado-Big Thompson Project, Colorado: Water service contracts for irrigation and M&I; contracts for the sale of water from the marketable yield to water users within the Colorado River Basin of western Colorado.

4. Garrison Diversion Conservancy District, Garrison Diversion Unit, P-SMBP, North Dakota: Intent to modify long-term water service contract to add additional irrigated acres.

5. Fryingpan-Arkansas Project, Colorado: Consideration of excess capacity contracting in the Fryingpan-Arkansas Project.

6. Colorado-Big Thompson Project, Colorado: Consideration of excess capacity contracting in the Colorado-Big Thompson Project.

7. Municipal Subdistrict of the Northern Colorado Water Conservancy District, Colorado-Big Thompson Project, Colorado: Consideration of a new long-term contract or amendment of contract No. 4-07-70-W0107 with the Municipal Subdistrict and the Northern Colorado Water Conservancy District for the proposed Windy Gap Firming Project.

8. Northern Integrated Supply Project, Colorado-Big Thompson Project, Colorado: Consideration of a new long-term contract with approximately 15 regional water suppliers and the Northern Colorado Water Conservancy District for the Northern Integrated Supply Project.

9. Colorado River Water Conservation District, Colorado-Big Thompson Project, Colorado: Long-term exchange, conveyance, and storage contract to implement the Exhibit B Agreement of the Settlement Agreement on Operating Procedures for Green Mountain Reservoir Concerning Operating Limitations and in Resolution of the Petition Filed August 7, 2003, in Case No. 49-CV-2782 (The United States v. Northern Colorado Water Conservancy District, et al., U.S. District Court for the District of Colorado, Case No. 2782 and Consolidated Case Nos. 5016 and 5017).

10. Roger W. Evans (Individual); Boysen Unit, P-SMBP; Wyoming: Renewal of long-term water service contract.

11. Busk-Ivanhoe, Inc., Fryingpan-Arkansas Project, Colorado: Contract for long-term carriage and storage, and/or a new contract for an additional use of water.

12. Southeastern Water Conservancy District, Fryingpan-Arkansas Project, Colorado: Consideration of an excess capacity master storage contract.

13. Green Mountain Reservoir, Colorado-Big Thompson Project, Colorado: Consideration of a request for a contract for municipal-recreational purposes.

14. State of Kansas Department of Wildlife and Parks; Glen Elder Unit, P-SMBP; Kansas: Intent to enter into a contract for the remaining conservation storage in Waconda Lake for recreation and fish and wildlife purposes.

15. Arkansas Valley Conduit, Fryingpan-Arkansas Project, Colorado: Consideration of a repayment contract for the Arkansas Valley Conduit.

16. Northern Colorado Water Conservancy District, Colorado-Big Thompson Project, Colorado: Amend or supplement the 1938 repayment contract to include the transfer of OM&R for Carter Lake Dam Additional Outlet Works and Flatiron Power Plant Bypass facilities.

17. Jamestown Reservoir, Jamestown Unit, P-SMBP, North Dakota: Intent to enter into an individual long-term irrigation water service contract to provide up to 285 acre-feet of water annually for a term of up to 40 years from Jamestown Reservoir, North Dakota.

18. Donala Water and Sanitation District, Fryingpan-Arkansas Project, Colorado: Consideration of a long-term excess capacity contract.

19. Purgatoire Water Conservancy District, Trinidad Project, Colorado: Consideration of a request to amend the contract.

20. Doug and Michelle Hamilton; Boysen Unit, P-SMBP; Wyoming: Renewal of a long-term water service contract.

21. Frank Robbins; Boysen Unit, P-SMBP; Wyoming: Renewal of a long-term water service contract.

22. Wade W. Jacobsen; Boysen Unit, P-SMBP; Wyoming: Renewal of a long-term water service contract.

23. Yellowtail Unit, P-SMBP, Montana: Negotiation of a water allocation agreement with the Crow Tribe for 300,000 acre-feet of storage in Bighorn Lake pursuant to the Crow Tribe Water Rights Settlement Act of 2010 (Pub. L. 111-291, enacted December 8, 2010).

24. Garrison Diversion Conservancy District; Garrison Diversion Unit, P-SMBP; North Dakota: Renegotiation of the master repayment contract to conform to the Dakota Water Resources Act of 2000; negotiation of water service or repayment contracts with irrigators and M&I users.

25. State of Colorado; Armel Unit, P-SMBP; Colorado: Consideration of a contract action to address future OM&R costs.

26. Central Oklahoma Master Conservancy District, Norman Project, Oklahoma: Amend existing contract No. 14-06-500-590 to execute a separate contract(s) to allow for importation and storage of nonproject water in accordance with the Lake Thunderbird Efficient Use Act of 2012.

27. Harlan County Dam and Reservoir, Bostwick Division, P-SMBP, Nebraska and Kansas: Consideration of a contract with Bostwick ID in Nebraska and Kansas-Bostwick ID No. 2 for repayment of extraordinary O&M at Harlan County Dam and Reservoir.

28. Altus Dam, W.C. Austin Project: Consideration of a contract(s) for repayment of SOD costs.

29. Bull Lake Dam, Riverton Unit, P-SMBP: Consideration of a contract with Midvale ID for repayment of SOD costs.

30. Helena Valley ID; Helena Valley Unit, P-SMBP; Montana: Consideration of a request for an amendment to the repayment contract to allow for delivery of up to 10,000 acre-feet of water for M&I purposes within the District boundaries.

31. Savage ID; Savage Unit, P-SMBP; Montana: Intent to renew the repayment contract to provide for a long-term-water supply to the District.

32. Mirage Flats ID; Mirage Flats Project: Consideration of a contract action for repayment of SOD costs.

33. Guernsey Dam, North Platte Project, Nebraska and Wyoming: O&M repayment contracts with North Platte Project contractors for the repayment of extraordinary maintenance associated with Guernsey Dam.

34. Tom Green County Water Control and Improvement District No. 1, San Angelo Project, Texas: Consideration of a potential contract(s) for use of excess capacity by individual landowner(s) for irrigation purposes.

35. Dickinson-Heart River Mutual Aid Corporation; Dickinson Unit, P-SMBP; North Dakota: Consideration of an amended long-term irrigation water service contract.

36. Town of Silverthorne, Colorado-Big Thompson Project, Colorado: Consideration of a new long-term water service contract for Green Mountain Reservoir.

37. Soldier Canyon Filter Plant/Tri-Districts, Colorado-Big Thompson Project, Colorado: Consideration of a long-term excess capacity contract.

38. Hillcrest Colony; Canyon Ferry Unit, P-SMBP; Montana: Consideration of a 10-year water service contract.

39. Allan Davies; Canyon Ferry Unit, P-SMBP; Montana: Renewal of a long-term water service contract.

40. William Rau; Canyon Ferry Unit, P-SMBP; Montana: Renewal of a long-term water service contract.

41. Western Heart River ID; Heart Butte Unit, P-SMBP; North Dakota: Consideration of amending the long-term irrigation repayment contract and project-use power contract to include additional acres.

42. Canyon Ferry Unit, P-SMBP, Montana: Renewal of 20 various individual water service contracts for small amounts of irrigation and municipal water use.

43. Edwards Farms, Nebraska Bostwick, P-SMBP: Consideration of a long-term Warren Act contract.

44. Larry TenBensel, Frenchman Cambridge, P-SMBP: Consideration of a long-term Warren Act contract.

45. Dickinson-Heart River Mutual Aid Corporation; Dickinson Unit, Heart Division; P-SMBP; North Dakota: Consideration of amending the long-term irrigation water service contract to modify the acres irrigated.

46. Galloway, Inc. (dba Blue Valley Ranch), Green Mountain Reservoir; Colorado-Big Thompson Project, Colorado: Consideration of a request to amend the existing contract.

47. Fort Clark ID; Fort Clark Unit; P-SMBP; North Dakota: Intent to enter into a new 5-year irrigation water service contract.

48. Buford-Trenton ID, Buford-Trenton Project, P-SMBP; North Dakota: Consideration of amending the long-term irrigation power repayment contract and project-use power contract to include additional acres.

49. Larry TenBensel, Frenchman-Cambridge, P-SMBP: Consideration of a long term excess capacity contract for the conveyance of nonproject water.

50. Kansas Bostwick ID, P-SMBP: Proposed amendment to original excess capacity contract executed June 2014, or new short-term excess capacity contract for storage and conveyance of nonproject water.

51. State of Nebraska, Bostwick Division, P-SMBP: Excess capacity contract with the State of Nebraska and/or State of Kansas entities.

52. Jeffrey N. Edwards Revocable Trust; Bostwick Division, P-SMBP; Nebraska: Excess capacity contract for the conveyance of nonproject water.

53. Grass Land Colony, Inc.; Canyon Ferry Unit, P-SMBP; Montana: Proposed 10-year contract for M&I water.

Completed contract actions:

1. (39) Nelson Dikes, Milk River Project: Consideration of a contract(s) for repayment of SOD costs. Completed, various dates.

2. (56) Port of Entry Piegan, Montana; Milk River Project; Montana: Consideration of a new water service contract. Contract executed November 7, 2014.

Dated: December 18, 2014.
Roseann Gonzales,
Director, Policy and Administration.

[FR Doc. 2015-00730 Filed 1-16-15; 8:45 am]

BILLING CODE 4332-90-P